DEPARTMENT OF HOUSING AND URBAN DEVELOPMENT

[Docket No. FR-5831-N-58]

30-Day Notice of Proposed Information Collection: HUD Standard Grant Application Forms

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: December 28, 2015.

ADDRESSES: Interested persons are invited to submit comments regarding this proposal. Comments should refer to the proposal by name and/or OMB Control Number (2501-0017) and (2535-0018) should be sent to: HUD Desk Officer, Office of Management and Budget, New Executive Office Building, Washington, DC 20503; fax: 202-395-5806. Email: OIRA_Submission@omb.eop.gov.

FOR FURTHER INFORMATION CONTACT: Anna Guido, Reports Management Officer, QMAC, Department of Housing and Urban Development, 451 7th Street SW., Washington, DC 20410; email at Anna Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

The Federal Register notice that solicited public comment on the information collection for a period of 60 days was published on September 18, 2015 at 80 FR 56489.

A. Overview of Information Collection

Title of Information Collection: HUD Standard Grant Application forms: Detailed Budget Form (HUD-424-CB), Budget Worksheet (HUD-424CBW), Application for Federal Assistance (SF-424), and the Third-Party Documentation Facsimile Transmittal Form (HUD-96011).

OMB Approval Number: 2501-0017.

Type of Request: Extension of a currently approved collection.

Form Number: HUD-424CB, HUD-424CBW, SF-424 and HUD-96011.

Description of the need for the information and proposed use: HUD-Common Budget Form and Worksheet intended to offer consolidated and streamlined grant application processes in accordance with the provisions of Public Law 106-107, The Federal Financial Assistance Improvement Act of 1999.

The use of the Third-Party Documentation Facsimile Transmittal Form allows the Department to collect the same information electronically as we would for a paper-based application. It also produces an electronic version of the document that will be matched with the electronic application submitted through grants.gov to HUD.

Estimation of the total number of hours needed to prepare the information collection including number of respondents, frequency of response, and hours of response: An estimation of the total number of hours needed to prepare the forms for each grant application is 5 minutes per response, however, the burden will be assessed against each individual grant program submission under the Paperwork Reduction Act; number of respondents is 33,000, frequency of response is on the occasion of application for benefits. An estimation of the total number of hours needed to prepare the forms for each grant application is estimated to average 30 minutes per response however, the burden will be assessed against each individual grant program submission under the Paperwork Reduction Act; number of respondents is 33,000, frequency of response is on the occasion of application for benefits.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: 12 U.S.C. 1701z-1 Research and Demonstrations.

Dated: November 19, 2015.
Anna Guido,
Department Reports Management Officer, Office of the Chief Information Officer.

[FR Doc. 2015-30112 Filed 11-24-15; 8:45 am]

BILLING CODE 4210-67-P